DEPARTMENT OF HEALTH AND HUMAN SERVICES

Program Support Center; Use of Federal Real Property To Assist the Homeless

AGENCY: Program Support Center, HHS.

ACTION: Final notice.

SUMMARY: Title V of the McKinney-Vento Homeless Assistance Act, 42 U.S.C. 11411 (Title V) authorizes the Secretary of Health and Human Services (the Secretary) to make suitable Federal properties categorized as excess or surplus available to representatives of persons experiencing homelessness as a permissible use in the protection of public health. This notice finalizes a policy revision under Title V to include permanent supportive housing as an allowable use of surplus real property to assist persons experiencing homelessness. The purpose of this policy revision is to increase the supportive housing and service opportunities available to communities as they respond to homelessness, and is consistent with efforts within Federal, State, and local governments, and communities themselves, to end chronic homelessness. This final notice follows publication of a notice and request for comments on January 26, 2006.

DATES: Effective Date: September 1, 2006.

FOR FURTHER INFORMATION CONTACT: John G. Hicks, Chief, Space Management Branch, Division of Property Management, Administrative Operations Service, Program Support Center, Room 5B-17, Parklawn Building, 5600 Fishers Lane, Rockville, Maryland 20857; telephone number (301) 443-2265.

SUPPLEMENTARY INFORMATION:

I. Discussion of the Public Comments on the Proposed Policy Revision

On January 26, 2006 (71 FR 4366), the U.S. Department of Health and Human Services (HHS) published a notice and request for comments that described a proposed policy revision under Title V to include permanent supportive housing as an allowable use of surplus real property to assist persons experiencing homelessness. The public comment period closed on February 28, 2006. HHS received comments from 16 respondents representing a variety of organizations and entities. Comments were received from: homeless service providers; homeless advocacy groups; a public housing authority; and Federal, State, and city government agencies.

II. General Comments About the Draft Notice

All of the comments received expressed support for the proposed policy revision. Eight of the respondents expressed support for the policy revision with no further comment.

Comment: Five of the respondents suggested that HHS should further revise the policy to allow all forms of non-supportive affordable permanent housing to be included as an eligible use under Title V.

HHS Response: Title V of the McKinney Act directs HHS to include, as a permissible use in the protection of public health, the furnishing of surplus real property to assist homeless individuals and families. The Secretary exercises the authority to approve permanent supportive housing programs for Title V, consistent with HHS' mission to protect the public health. The provision of low-income housing (i.e. the Section 8 Housing Choice Voucher Program) is under the purview of the U.S. Department of Housing and Urban Development (HUD). HHS, as the nation's public health agency, does not operate low-income housing programs, and does not intend to duplicate already existing programs operated by HUD. The proposed policy revision is intended to reaffirm HHS' 1992 determination that the provision of low-income housing does not constitute an appropriate public health use of surplus real property under Title V. In contrast, we are proposing a permanent supportive housing program that is long-term, community-based, and linked to supportive services for homeless persons with disabilities.

Comment: Three of the respondents recommended that the definition for permanent supportive housing should include the term “affordable.”

HHS Response: HHS has modified the definition of permanent supportive housing to include the term affordable.

Comment: Three of the respondents recommended that the term “disability” should be explicitly defined.

HHS Response: HHS has included a definition for disability in the final Notice.

III. Background

The HHS Program Support Center (PSC) administers the Federal Real Property Assistance Program, the program that governs the transfer of surplus Federal real property for public health purposes under Title 40, section 550 of the United States Code, “Public Buildings, Property, and Works,” and the transfer of excess and surplus Federal real property pursuant to Title V.

Under Title V, a representative of persons experiencing homelessness may submit an application to the Secretary of HHS to acquire suitable excess or surplus Federal real property for use in the assistance of persons experiencing homelessness. In 1991, HHS, HUD, and the General Services Administration (GSA) jointly published a regulation implementing the provisions of Title V, codified at 45 CFR part 12a (the joint regulation). Title V authorizes the Secretary to make property in these categories available to representatives of persons experiencing homelessness, by lease or deed, as a public health use pursuant to subsections (a) to (d) of section 550 of Title 40, United States Code. In accordance with subsection (d) of Title 40, the Secretary may propose to sell or lease property assigned to the Secretary for use in the protection of the public health, including research. To implement both Title V and section 550 of Title 40, the Secretary determines whether an applicant's proposed program of utilization is an approvable public health program, and then recommends to the Administrator of GSA which excess and surplus real property is needed for that approved program in the protection of the public health. 40 U.S.C. 550(d); 45 CFR 12.3(a).

Title V directs HHS to include, as a permissible use in the protection of public health, the furnishing of surplus real property to assist homeless individuals and families. Title V does not prescribe appropriate homeless assistance programs.

HHS concluded in 1992 that long-term housing did not constitute an appropriate public health use of surplus real property under Title V. HHS subsequently adopted the HUD standard, limiting occupancy in Title V's transitional housing programs to 24 months. Until now, HHS has not considered whether the provision of long-term, community-based housing linked with supportive services for persons experiencing homelessness was a permissible public health use.

The Secretary exercises the authority to approve permanent supportive housing programs for Title V, consistent with HHS' mission to protect the public health. There are several critical distinctions between the policy decision in 1992 regarding the use of surplus real property for low-income housing and the current policy revision to allow surplus real property to be used for permanent supportive housing. Low-income housing is defined as subsidized housing opportunities for individuals with low incomes. The provision of low-income housing (i.e. the Section 8 Housing Choice Voucher Program) is under the purview of HUD. HHS, as the nation's public health agency, does not operate low-income housing programs, and does not possess the experience or expertise to complement HUD's mission. The policy revision is intended to reaffirm HHS' 1992 determination that the provision of low-income housing does not constitute an appropriate public health use of surplus real property under Title V. In contrast, we are proposing a permanent supportive housing program that is long-term, affordable, community-based, and linked to supportive services for homeless persons with disabilities.

IV. Policy Revision

HHS has historically been involved in the provision of permanent supportive housing, such as through the Projects for Assistance in Transition from Homelessness (PATH) program that is operated in the Substance Abuse and Mental Health Services Administration (SAMHSA). Given HHS' history of involvement in the health service component of supportive housing programs, there is precedent to suggest that this would be an appropriate public health use of surplus real property under Title V.

Permanent supportive housing is a service model that links housing and services together, without the 24-month time limit traditionally imposed by a transitional housing program. Initial research thus far suggests the effectiveness of permanent supportive housing for individuals with disabilities and those who are chronically homeless. In several studies, this model has been successful at achieving housing stability. For example, placement of homeless people with severe mental illness in permanent supportive housing is associated with reductions in subsequent use of shelters, hospitalizations, and incarcerations (Culhane et al., 2001). Early outcomes in a study of supportive housing with integrated services suggest that these services reduced the use of emergency health care rooms, psychiatric and detoxification programs as well as inpatient care (Corporation for Supportive Housing, 2000). Experimental studies comparing the relative impact of case management and housing resources suggest that long-term housing resources are distinctively effective in reducing homelessness (Rosenheck, 2003).

The policy revision will allow property acquired through the Title V process to be utilized for the development of permanent supportive housing programs that provide permanent housing along with supportive services to homeless people in need of public health assistance and/or services (e.g., substance abuse, mental health, case management, medical care services, and disabled and frail elderly homeless services). This revision would not preclude communities from using surplus property to develop transitional housing programs, emergency shelter programs, or any other homeless assistance program currently approvable by HHS, but simply expands the options available under Title V.

For the purpose of the Title V program, permanent supportive housing means long-term, affordable, community-based housing that is linked to appropriate supportive health and social services (e.g., substance abuse, mental health, case management, medical care services, and disabled and frail elderly services) that enable homeless individuals and homeless families with disabilities to maintain housing. Permanent means there is no time limit to residency, provided a tenant meets conditions of occupancy as established by the program. Affordable means that generally households or tenants pay no more than 30 percent of the occupant's annual income on rent. Eligible populations for this program include homeless individuals with a disability, homeless families with a disabled family member (either parent or child), and homeless frail elderly populations. For the purposes of this program, a disability is defined as a diagnosable substance use disorder, serious mental illness, developmental disability, or chronic physical illness or disability, including the co-occurrence of two or more of these conditions. A disabling condition limits an individual's ability to work or perform one or more activities of daily living. This definition of disability was developed collaboratively by HHS, HUD, and the Department of Veterans Affairs for the Chronic Homelessness Initiative.

The same evaluation criteria outlined in the joint regulation will continue to apply to all applications received for consideration under Title V, including those requesting property to be used for permanent supportive housing. Applicants must fully describe the proposed program, demonstrate how the services to be provided will address the needs of the homeless population to be served, and otherwise comply with the requirements of Title V and the joint regulation.

Existing grantees or lessees interested in changing current programs to include permanent supportive housing are requested to provide a written expression of interest to the Division of Property Management, Administrative Operations Service, Program Support Center, Room 5B-17, Parklawn Building, 5600 Fishers Lane, Rockville, Maryland 20857. Grantees and lessees will be required to submit an amended application.

This policy revision will be instituted on the effective date of this final notice.

Dated: June 7, 2006.
J. Philip VanLandingham,
Deputy Assistant Secretary for Program Support.

[FR Doc. E6-10703 Filed 7-7-06; 8:45 am]

BILLING CODE 4510-03-P